DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Region Permit Family of Forms.

Form Number(s): None.

OMB Approval Number: 0648-0206.

Type of Request: Regular submission.

Burden Hours: 483.

Number of Respondents: 889.

Average Hours Per Response: 21 minutes for a vessel or processor permit; 30 minutes for a salmon permit; 20 hours for an exempted fishing permit; 5 hours for an exempted fishing permit progress report; and 10 hours for an exempted fishing permit final report.

Needs and Uses: This collection of information is used to monitor and manage participation in groundfish fisheries by the National Marine Fisheries Service, Alaska Region and consists of the following permits: Federal fisheries permit, Federal processor permit, High seas power troller salmon permit, and exempted fishing permit. The permit affords identification of participants, harvest gear types, descriptions of vessels or shoreside facilities, and expected activity levels. Identification of the participants and expected activity levels is needed to measure the consequences of management controls, and is an effective tool in the enforcement of other fishery regulations.

Affected Public: Business or other for-profit organizations, individuals or households.

Frequency: On occasion, triennial, and variable.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, e-mail address David_Rostker@omb.eop.gov or fax to (202) 395-7285.

Dated: August 28, 2003.
Gwellnar Banks,
Management Analyst, Office of the Chief Information Officer.

[FR Doc. 03-22573 Filed 9-4-03; 8:45 am]

BILLING CODE 3510-22-S